FEDERAL COMMUNICATIONS COMMISSION

Notice of Public Information Collection(s) Being Reviewed by the Federal Communications Commission, Comments Requested

November 2, 2004.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 7, 2005. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0262.

Title: Section 90.179, Shared Use of Radio Stations.

Form No.: N/A.

Type of Review: Extension of a currently approved collection.

Respondents: Business or other for-profit, not-for-profit institutions, and state, local or tribal government.

Number of Respondents: 42,000.

Estimated Time Per Response: .75 hours.

Frequency of Response: Recordkeeping requirement and third party disclosure requirement.

Total Annual Burden: 31,500 hours.

Total Annual Cost: N/A.

Privacy Act Impact Assessment: N/A.

Needs and Uses: Licensees of radio stations authorized under this rule part may share the use of their facilities. A station is shared when persons not licensed for the station control the station for their own purposes pursuant to the licensee's authorization. Shared use of a radio station may be either on a non-profit cost shared basis or on a for-profit private carrier basis. Section 90.179(d) requires that if the licensee shares the land station on a non-profit, cost shared basis to the licensee, this shared use must be pursuant to a written agreement between the licensee and each participant which sets out (1) the method of operation; (2) the components of the system which are covered by the sharing arrangements; (3) the method of which costs are to be apportioned; and (4) acknowledgement that all shared transmitter use must be subject to the licensee's control. These agreements must be kept as part of the station records.

OMB Control No.: 3060-0805.

Title: Section 90.527, Regional Plan Requirements; Section 90.523, Eligibility; and Section 90.545, TV/DTV Interference Protection Criteria.

Form No.: N/A.

Type of Review: Extension of a currently approved collection.

Respondents: Business or other for-profit, not-for-profit institutions, and state, local or tribal government.

Number of Respondents: 26,656.

Estimated Time Per Response: .50-28.87 hours.

Frequency of Response: On occasion reporting requirement and third party disclosure requirement.

Total Annual Burden: 647,675 hours.

Total Annual Cost: N/A.

Privacy Act Impact Assessment: N/A.

Needs and Uses: Section 90.523 requires that all applications submitted by a nongovernmental organization (NGO) must be accompanied by a new, written certification of support (for the NGO) applicant to operate the applied-for system) by the state or local governmental entity referenced in paragraph (b)(1) of this rule section. All NGO authorizations are conditional. NGOs assume all risks associated with operating under conditional authority. If at any time the supporting governmental entity notifies the Commission in writing of such governmental entity's termination of its authorization of a NGOs operation of a system in the 764-776 MHz and 794-806 MHz frequency bands, the NGO's application shall be dismissed automatically or, if authorized by the Commission, the NGOs authorization shall terminate automatically.

Section 90.527 requires that each regional planning committee must submit a regional plan for approval by the Commission. There is specific information that must be included in the plans, under this rule section, including a certification by the regional planning chairperson that all planning committee meetings, including subcommittee or executive committee meetings, were open to the public. Modification of regional plans may be submitted in a written request, signed by the regional planning committee, to the Chief, Wireless Telecommunications Bureau, FCC. The request must contain the full text of the modification, and must certify that successful coordination of the modification with all adjacent regions has occurred and that all such regions concur with the modification.

Section 90.545 requires licensees of stations operating within the effective radiated power (ERP) and the antenna height above average terrain (HAAT) limits of the proposed land mobile base station, the associated control station, and the mobile transmitters, must select one of three methods to meet the TV/DTV protection requirements, subject to Commission approval: (1) Utilize the geographic separation specified in the tables referenced in this rule section; (2) submit an engineering study justifying the proposed separations based on the actual parameters of the land mobile station and the actual parameters of the TV/DTV station(s) it is trying to protect; (3) submit an engineering study justifying the proposed separations based on the parameters of the land mobile station and the parameters, including authorized and/or applied-for facilities, of the TV/DTV station(s) it is trying to protect; or, (4) obtain written concurrence from the applicable TV/DTV station(s). If this method is chosen, a copy of the agreement must be submitted with the application.

Federal Communications Commission.
Marlene H. Dortch,
Secretary.

[FR Doc. 04-24836 Filed 11-5-04; 8:45 am]

BILLING CODE 6712-01-P